DEPARTMENT OF ENERGY

Federal Energy Regulatory Commission

[Project No. 2997-031]

South Sutter Water District; Notice of Application Accepted for Filing and Soliciting Motions To Intervene and Protests

Take notice that the following hydroelectric application has been filed with the Commission and is available for public inspection.

a. Type of Application: Major, new license.

b. Project No.: P-2997-031.

c. Date filed: July 1, 2019.

d. Applicant: South Sutter Water District.

e. Name of Project: Camp Far West Hydroelectric Project.

f. Location: The existing hydroelectric project is located on the Bear River in Yuba, Nevada, and Placer Counties, California. The project, with the proposed project boundary modifications, would occupy a total of 2,674 acres. No federal or tribal lands occur within or adjacent to the project boundary or along the Bear River downstream of the project.

g. Filed Pursuant to: Federal Power Act, 16 U.S.C. 791(a)-825(r).

h. Applicant Contact: Mr. Brad Arnold, General Manager, South Sutter Water District, 2464 Pacific Avenue, Trowbridge, California 95659.

i. FERC Contact: Quinn Emmering, (202) 502-6382, quinn.emmering@ferc.gov.

j. Deadline for filing motions to intervene and protests and requests for cooperating agency status: 60 days from the issuance date of this notice.

The Commission strongly encourages electronic filing. Please file motions to intervene and protests and requests for cooperating agency status using the Commission's eFiling system at http://www.ferc.gov/docs-filing/efiling.asp. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-2997-031.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted, but is not ready for environmental analysis at this time.

l. Project Description: The existing Camp Far West Hydroelectric Project operates to primarily provide water during the irrigation season, generate power, and meet streamflow requirements for the Bear River. The existing project includes: (1) A 185-foot-high, 40-foot-wide, 2,070-foot-long, zoned, earth-filled main dam; (2) a 45-foot-high, 20-foot-wide, 1,060-foot-long, earth-filled south wing dam; (3) a 25-foot-high, 20-foot-wide, 1,460-foot-long, earth-filled north wing dam; (4) a 15-foot-high, 20-foot-wide, 1,450-foot-long, earth-filled dike; (5) a 1,886-acre reservoir with a gross storage capacity of about 93,737 acre-feet at the normal maximum water surface elevation (NMWSE) of 300 feet; (6) an overflow spillway with a 15-foot-wide concrete approach apron, 300-foot-long ungated, ogee-type concrete structure, and a 77-foot-long downstream concrete chute with concrete sidewalls; (7) a 1,200-foot-long, unlined, rock channel that carries spill downstream to the Bear River; (8) a 22-foot-high, concrete, power intake tower with openings on three sides protected by steel trashracks; (9) a 760-foot-long, 8-foot-diameter concrete tunnel through the left abutment of the main dam that conveys water from the power intake to the powerhouse; (10) a steel-reinforced, concrete powerhouse with a 6.8-megawatt, vertical-shaft, Francis-type turbine, which discharges to the Bear River at the base of the main dam; (11) a 25-foot-4-inch-high, concrete, vertical intake tower with openings on three sides protected by steel trashracks that receives water for the outlet works; (12) a 350-foot-long, 48-inch-diameter steel pipe that conveys water from the intake structure to a valve chamber for the outlet works; (13) a 400-foot-long, 7.5-foot-diameter concrete-lined horseshoe tunnel that connects to the valve chamber; (14) a 48-inch-diameter, outlet valve with a 500-cubic-feet-per-second release capacity at NMWSE on the downstream face of the main dam that discharges directly into the Bear River; (15) a switchyard adjacent to the powerhouse; (16) two recreation areas with campgrounds, day-use areas, boat ramps, restrooms, and sewage holding ponds; (17) a recreational water system that includes two pumps in the reservoir that deliver water to a treatment facility that is piped to a 60,000-gallon storage tank to supply water to recreation facilities. The estimated average annual generation (2010 to 2017) is 22,637 megawatt-hours.

South Sutter Water District proposes to: (1) Raise the NMWSE of the project reservoir by 5 feet from an elevation of 300 feet to an elevation of 305 feet; (2) raise the existing spillway crest from an elevation of 300 feet to an elevation of 305 feet to accommodate the proposed pool raise; (3) replace and restore several recreation facilities; (4) add an existing 0.25-mile road as a primary project road to access the powerhouse and switchyard; and (5) modify the project boundary to account for the removal of the 1.9-mile-long transmission line from the license in 1991, corrections based on current project operation and maintenance, and changes under the category of a contour 20 feet above the 300-feet NMWSE or proximity of 200-horizontal-feet from the 300-foot NMWSE.

m. A copy of the application is available for review at the Commission in the Public Reference Room or may be viewed on the Commission's website at http://www.ferc.gov using the eLibrary link. Enter the docket number excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

n. Anyone may submit a protest or a motion to intervene in accordance with the requirements of Rules of Practice and Procedure, 18 CFR 385.210, 385.211, and 385.214. In determining the appropriate action to take, the Commission will consider all protests filed, but only those who file a motion to intervene in accordance with the Commission's Rules may become a party to the proceeding. Any protests or motions to intervene must be received on or before the specified deadline date for the particular application.

All filings must (1) bear in all capital letters the title PROTEST or MOTION TO INTERVENE; (2) set forth in the heading the name of the applicant and the project number of the application to which the filing responds; (3) furnish the name, address, and telephone number of the person protesting or intervening; and (4) otherwise comply with the requirements of 18 CFR 385.2001 through 385.2005. Agencies may obtain copies of the application directly from the applicant. A copy of any protest or motion to intervene must be served upon each representative of the applicant specified in the particular application.

o. Procedural schedule: The application will be processed according to the following schedule. Revisions to the schedule will be made as appropriate.

Deadline for Filing Motions to Intervene and Protests and Requests for Cooperating Agency Status—October 29, 2019

Commission issues Scoping Document 1—January 2020

Scoping Comments due—February 2020

Commission issues Request for Additional Information (if necessary)—March 2020

Commission issues Scoping Document 2 (if necessary)—April 2020

Commission issues Notice of Ready for Environmental Analysis—April 2020

Commission issues EA, Draft EA, or Draft EIS—October 2020

Comments on EA, Draft EA, or Draft EIS due—November 2020

Commission issues Final EA or Final EIS—February 2021

Dated: August 30, 2019.
Nathaniel J. Davis, Sr.,
Deputy Secretary.

[FR Doc. 2019-19275 Filed 9-5-19; 8:45 am]

BILLING CODE 6717-01-P